FEDERAL EMERGENCY MANAGEMENT AGENCY

44 CFR Part 64

[Docket No. FEMA-7791]

Suspension of Community Eligibility

AGENCY: Federal Emergency Management Agency, FEMA.

ACTION: Final rule.

SUMMARY: This rule identifies communities, where the sale of flood insurance has been authorized under the National Flood Insurance Program (NFIP), that are suspended on the effective dates listed within this rule because of noncompliance with the floodplain management requirements of the program. If the Federal Emergency Management Agency (FEMA) receives documentation that the community has adopted the required floodplain management measures prior to the effective suspension date given in this rule, the suspension will be withdrawn by publication in the Federal Register.

EFFECTIVE DATES: The effective date of each community's suspension is the third date (“Susp.”) listed in the third column of the following tables.

ADDRESSES: If you wish to determine whether a particular community was suspended on the suspension date, contact the appropriate FEMA Regional Office or the NFIP servicing contractor.

FOR FURTHER INFORMATION CONTACT: Edward Pasterick, Division Director, Program Marketing and Partnership Division, Federal Insurance and Mitigation Administration, 500 C Street, SW.; Room 411, Washington, DC 20472, (202) 646-3098.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the National Flood Insurance Program, 42 U.S.C. 4001 et seq.; unless an appropriate public body adopts adequate floodplain management measures with effective enforcement measures. The communities listed in this document no longer meet that statutory requirement for compliance with program regulations, 44 CFR part 59 et seq. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, the Federal Emergency Management Agency has identified the special flood hazard areas in these communities by publishing a Flood Insurance Rate Map (FIRM). The date of the FIRM if one has been published, is indicated in the fourth column of the table. No direct Federal financial assistance (except assistance pursuant to the Robert T. Stafford Disaster Relief and Emergency Assistance Act not in connection with a flood) may legally be provided for construction or acquisition of buildings in the identified special flood hazard area of communities not participating in the NFIP and identified for more than a year, on the Federal Emergency Management Agency's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives a 6-month, 90-day, and 30-day notification addressed to the Chief Executive Officer that the community will be suspended unless the required floodplain management measures are met prior to the effective suspension date. Since these notifications have been made, this final rule may take effect within less than 30 days.

National Environmental Policy Act

This rule is categorically excluded from the requirements of 44 CFR part 10, Environmental Considerations. No environmental impact assessment has been prepared.

Regulatory Flexibility Act

The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless they take remedial action.

Regulatory Classification

This final rule is not a significant regulatory action under the criteria of section 3(f) of Executive Order 12866 of September 30, 1993, Regulatory Planning and Review, 58 FR 51735.

Paperwork Reduction Act

This rule does not involve any collection of information for purposes of the Paperwork Reduction Act, 44 U.S.C. 3501 et seq.

Executive Order 12612, Federalism

This rule involves no policies that have federalism implications under Executive Order 12612, Federalism, October 26, 1987, 3 CFR, 1987 Comp.; p. 252.

Executive Order 12778, Civil Justice Reform

This rule meets the applicable standards of section 2(b)(2) of Executive Order 12778, October 25, 1991, 56 FR 55195, 3 CFR, 1991 Comp.; p. 309.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State/location | Community No. | Effective date authorization/cancellation of sale of flood insurance in community | Current effective map date | Date certain Federal assistance no longer available in special flood hazard areas
Region III
Virginia:
Boykins, Town of, Southampton County | 510151 | May 20, 1975, Emerg.; April 1, 1982, Reg. September 4, 2002 | Sept. 4, 2002 | Sept. 4, 2002.
Branchville, Town of, Southampton County | 510296 | July 21, 1975; March 30, 1979, Reg. September 4, 2002 | ......do | Do.
Franklin, City of, Independent City | 510060 | July 19, 1974, Emerg.; August 15, 1980, Reg. September 4, 2002 | ......do | Do.
Isle of Wight County, Unincorporated Areas | 510303 | May 20, 1975, Emerg.; August 19, 1991, Reg. September 4, 2002 | ......do | Do.
Smithfield, Town of, Isle of Wight County | 510081 | September 24, 1974, Emerg.; December 5, 1990, Reg. September 4, 2002 | ......do | Do.
Southampton County, Unincorporated Areas | 510315 | September 16, 1974, Emerg.; December 15, 1982, Reg. September 4, 2002 | ......do | Do.
Suffolk, City of, Independent City | 510156 | January 22, 1975, Emerg.; November 16, 1990, Reg. September 4, 2002 | ......do | Do.
Windsor, Town of, Isle of Wight County | 510295 | August 11, 1988, Emerg.; August 1, 1990, Reg. September 4, 2002 | ......do | Do.
Region V
Ohio:
New Boston, Village of, Scioto County | 390497 | April 17, 1975, Emerg.; January 26, 1983, Reg. September 4, 2002 | ......do | Do.
Portsmouth, City of, Scioto County | 390498 | March 7, 1975, Emerg.; August 15, 1983, Reg. September 4, 2002 | ......do | Do.
Rarden, Village of, Scioto County | 390499 | February 14, 1977, Emerg.; April 17, 1989, Reg. September 4, 2002 | ......do | Do.
Scioto County, Unincorporated Areas | 390496 | November 20, 1975, Emerg.; June 19, 1989, Reg. September 4, 2002 | ......do | Do.
Wisconsin:
Bay City, Village of, Pierce County | 555543 | July 31, 1970, Emerg.; June 11, 1971, Reg. September 4, 2002 | ......do | Do.
Region VI
New Mexico:
Lovington, City of, Lea County | 350031 | December 10, 1974, Emerg.; November 1, 1989, Reg. September 4, 2002 | ......do | Do.
Region VIII
North Dakota:
Harwood, Township of, Cass County | 380338 | April 11, 1978, Emerg.; September 30, 1980, Reg. September 4, 2002 | ......do | Do.
Reed, Township of, Cass County | 380257 | December 27, 1977, Emerg.; October 15, 1980, Reg. September 4, 2002 | ......do | Do.
Reiles Acres, City of, Cass County | 380324 | March 22, 1978, Emerg.; September 30, 1987, Reg. September 4, 2002 | ......do | Do.
West Fargo, City of, Cass County | 380024 | December 6, 1973, Emerg.; April 17, 1978, Reg. September 4, 2002 | ......do | Do.
Region IV
Florida:
Callaway, City of, Bay County | 120005 | January 13, 1975, Emerg.; July 16, 1980, Reg. September 18, 2002 | Sept. 18, 2002 | Sept. 18, 2002
Parker, City of, Bay County | 120011 | May 5, 1975, Emerg.; August 1, 1980, Reg. September 18, 2002 | ......do | Do.
Region V
Ohio:
Meigs County, Unincorporated Areas | 390387 | February 9, 1977, Emerg.; November 16, 1995, Reg. September 18, 2002 | ......do | Do.
Middleport, Village of, Meigs County | 390388 | August 28, 1974, Emerg.; September 29, 1978, Reg. September 18, 2002 | ......do | Do.
Pomeroy, Village of, Meigs County | 390389 | July 24, 1975, Emerg.; July 5, 1983, Reg. September 18, 2002 | ......do | Do.
Racine, Village of, Meigs County | 390390 | March 31, 1976, Emerg.; August 15, 1983, Reg. September 18, 2002 | ......do | Do.
Rutland, Village of, Meigs County | 390670 | September 3, 1975, Emerg.; November 2, 1990, Reg. September 18, 2002 | ......do | Do.
Syracuse, Village of, Meigs County | 390391 | July 2, 1975, Emerg.; July 5, 1983, Reg. September 18, 2002 | ......do | Do.
Wisconsin:
Chippewa Falls, City of, Chippewa County | 550044 | April 16, 1971, Emerg.; September 1, 1977, Reg. September 18, 2002 | ......do | Do.
Region VI
Texas:
Abernathy, City of, Lubbock County | 480271 | June 6, 1975, Emerg.; August 24, 1982, Reg. September 18, 2002 | ......do | Do.
Idalou, Town of, Lubbock County | 480916 | May 19, 1978, Emerg.; June 1, 1988, Reg. September 18, 2002 | ......do | Do.
Lubbock, City of, Lubbock County | 480452 | May 24, 1973, Emerg.; September 2, 1982, Reg. September 18, 2002 | ......do | Do.
Slanton, Town of, Lubbock County | 480453 | June 25, 1975, Emerg.; August 3, 1982, Reg. September 18, 2002 | ......do | Do.
Region VII
Kansas:
Andover, City of, Butler County | 200383 | February 7, 1977, Emerg.; December 4, 1986, Reg. September 18, 2002 | ......do | Do.
Region II
New York:
Corning, City of, Steuben County | 360772 | February, 23, 1973, Emerg.; December 1, 1977, Reg. September 27, 2002 | Sept. 27, 2002 | Sept. 27, 2002
Corning, Town of, Steuben County | 360773 | March 23, 1973, Emerg.; August 3, 1981, Reg. September 27, 2002 | ......do | Do.
Hamilton, Town of, Madison County | 360401 | July 2, 1975, Emerg.; May 1, 1985, Reg. September 27, 2002 | ......do | Do.
Hamilton, Village of, Madison County | 360402 | January 3, 1975, Emerg.; April 1, 1987, Reg. September 27, 2002 | ......do | Do.
Region IX
Nevada:
Boulder, City of, Clark County | 320004 | August 25, 1975, Emerg.; September 16, 1981, Reg. September 27, 2002 | ......do | Do.
Clark County, Unincorporated Areas | 320003 | June 27, 1975, Emerg.; September 29, 1989, Reg. September 27, 2002 | ......do | Do.
Henderson, City of, Clark County | 320005 | January 14, 1975, Emerg.; June 15, 1982, Reg. September 27, 2002 | ......do | Do.
Las Vegas, City of, Clark County | 325276 | August 16, 1974, Emerg.; September 30, 1980, Reg. September 27, 2002 | ......do | Do.
Mesquite, City of, Clark County | 320035 | November 6, 1985, Emerg.; September 28, 1990, Reg. September 27, 2002 | ......do | Do.
North Las Vegas, City of, Clark County | 320007 | August 8, 1973, Emerg.; January 16, 1981, Reg. September 27, 2002 | ......do | Do.
Code for reading third column: Emerg.-Emergency; Reg.-Regular; Susp.-Suspension.

Dated: August 14, 2002.
Anthony S. Lowe,
Administrator, Federal Insurance and Mitigation Administration.

[FR Doc. 02-21503 Filed 8-22-02; 8:45 am]

BILLING CODE 6718-02-P